ENVIRONMENTAL PROTECTION AGENCY

40 CFR Part 271

[EPA-R09-RCRA-2024-0298; FRL-12239-01-R9]

Authorization of State Hazardous Waste Management Program Revisions: California

AGENCY: Environmental Protection Agency (EPA).

ACTION: Proposed rule.

SUMMARY: California has applied to the Environmental Protection Agency (EPA) for final authorization of changes to its hazardous waste program under the Resource Conservation and Recovery Act (RCRA), as amended. The EPA has reviewed California's application and has determined, subject to public comment, that these changes satisfy all requirements needed to qualify for final authorization. Therefore, in the “Rules and Regulations” section of this Federal Register, we are authorizing California for these changes as a final action without a prior proposed rulemaking. If we receive no adverse comment, we will not take further action on this proposed rule.

DATES: Comments must be received on or before October 14, 2025.

ADDRESSES: Submit your comments, identified by Docket ID No. EPA-R09-RCRA-2024-0298, at https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www.epa.gov/dockets/commenting-epa-dockets.

The EPA encourages electronic submittals, but if you are unable to submit electronically or need other assistance, please contact Naimah Ali, the contact listed in the FOR FURTHER INFORMATION CONTACT section. Please also contact Naimah Ali if you need assistance in a language other than English or if you are a person with disabilities who needs a reasonable accommodation at no cost to you.

All documents in the docket are listed in the www.regulations.gov index. Publicly available docket materials are available electronically in www.regulations.gov. For alternative access to docket materials, please contact Naimah Ali, the contact listed in the FOR FURTHER INFORMATION CONTACT section.

FOR FURTHER INFORMATION CONTACT: Naimah Ali; Planning and State Development Office; Land, Chemicals and Redevelopment Division; U.S. Environmental Protection Agency; 75 Hawthorne St, San Francisco, CA 94105-3922; telephone number: (619) 849-1319; email address: ali.naimah@epa.gov.

SUPPLEMENTARY INFORMATION: This document proposes to take action on California's changes to its hazardous waste management program under the Resource Conservation and Recovery Act (RCRA), as amended. We have published a final action authorizing these changes in the “Rules and Regulations” section of this Federal Register because we view this as a noncontroversial action and anticipate no adverse comment. We have explained our reasons for this action in the preamble to the final action.

If we receive no adverse comment, we will not take further action on this proposed rule. If we receive adverse comment, we will either publish a withdrawal notification promptly in the Federal Register informing the public that the final action will not take effect, or we will publish a notification containing a response to comments that either reverses the decision or affirms that the final action will take effect. In the event that the final action is withdrawn, we would address all public comments and make a final decision on authorization in a subsequent final action.

We do not intend to institute a second comment period on this action. Any parties interested in commenting must do so at this time. For further information, please see the information provided in the ADDRESSES section of this document.

Dated: September 3, 2025.
Michael Martucci,
Acting Regional Administrator, Region 9.

[FR Doc. 2025-17540 Filed 9-10-25; 8:45 am]

BILLING CODE 6560-50-P